DEPARTMENT OF DEFENSE

Office of the Secretary

Renewal of the Telecommunications Service Priority System Oversight Committee (TSPOC)

ACTION: Notice.

SUMMARY: The TSPOC has been renewed in consonance with the public interest, and in accordance with the provisions of Pub. L. 92-463, the “Federal Advisory Committee Act.”

The TSPOC provides advice and recommendations to the Secretary of Defense regarding the priority treatment of national security and emergency preparedness telecommunications services. Functions include evaluating the currency of policies, procedures and system documentation requirements, and assessing the adequacy of the system in the light of technological advances.

The TSPOC will continue to be composed of 18 members, both federal, state and local government, and non-government individuals, who are experts in telecommunications services. Efforts will be made to ensure that there is a fairly balanced membership in terms of the functions to be performed and the interest groups represented.

FOR FURTHER INFORMATION CONTACT: Ms. Debbie Bea, National Communications System, Defense Information Systems Agency, telephone: 703-607-4933.

Dated: November 6, 2000.
L.M. Bynum,
Alternate OSD Federal Register Liaison Officer, Department of Defense.

[FR Doc. 00-28862 Filed 11-9-00; 8:45 am]

BILLING CODE 5001-10-M